CIVIL RIGHTS COMMISSION

Sunshine Act; Meeting

Date and Time: Friday, January 20, 2006, 9:30 a.m., Commission Meeting.

Place: U.S. Commission on Civil Rights, 624 Ninth Street, NW., Room 540, Washington, DC 20425.

Status:

Agenda

I. Approval of Agenda.

II. Approval of Minutes of December 16, 2005 Meeting.

III. Announcements.

IV. Commission Briefing: Native Hawaiian Government Reorganization Act.

• Introductory Remarks by Chairman.

• Speakers' Presentations.

• Questions by Commissioners and Staff Director.

V. Staff Director's Report.

VI. Program Planning.

• Voting Rights Statutory Report.

• campus Anti-Semitism.

VII. Management and Operations.

• Extension of GAO Implementation.

• July 2006 Commission Meeting Date.

VIII. State Advisory Committees.

• Working Group on SAC Reform.

• Arizona SAC Report.

IX. Briefing Report.

• Voting Rights Briefing Report.

Contact Person for Further Information: Audrey Wright, Office of the Staff Director (202) 376-7700.

Kenneth L. Marcus,
Staff Director, Acting General Counsel.

[FR Doc. 06-357 Filed 1-10-06; 3:35 pm]

BILLING CODE 6335-01-M